DEPARTMENT OF HEALTH AND HUMAN SERVICES

Health Resources and Services Administration

Agency Information Collection Activities: Submission to OMB for Review and Approval; Public Comment Request; Information Collection Request Title: Federal Tort Claims Act (FTCA) Program Deeming Applications for Free Clinics [OMB No. 0915-0293—Extension]

AGENCY: Health Resources and Services Administration (HRSA), Department of Health and Human Services.

ACTION: Notice.

SUMMARY: In compliance with the Paperwork Reduction Act of 1995, HRSA has submitted an Information Collection Request (ICR) to the Office of Management and Budget (OMB) for review and approval. Comments submitted during the first public review of this ICR will be provided to OMB. OMB will accept further comments from the public during the review and approval period.

DATES: Comments on this ICR must be received no later than November 6, 2017.

ADDRESSES: Submit your comments, including the Information Collection Request Title, to the desk officer for HRSA, either by email to OIRA_submission@omb.eop.gov or by fax to 202-395-5806.

FOR FURTHER INFORMATION CONTACT: To request a copy of the clearance requests submitted to OMB for review, email Lisa Wright-Solomon, the HRSA Information Collection Clearance Officer at paperwork@hrsa.gov or call (301) 443-1984.

SUPPLEMENTARY INFORMATION: When submitting comments or requesting information, please include the information request collection title for reference, in compliance with Section 3506(c)(2)(A) of the Paperwork Reduction Act of 1995.

Information Collection Request Title: Federal Tort Claims Act (FTCA) Program Deeming Applications for Free Clinics—OMB No. 0915-0293—Extension.

Abstract: Section 224(o) of the Public Health Service (PHS) Act (42 U.S.C. 233(o)), as amended, authorizes the “deeming” of certain individuals as PHS employees for the purposes of receiving Federal Tort Claims Act (FTCA) coverage. Section 224(o) relates to employees, officers, and contractors at qualifying free clinics. The Free Clinics FTCA Program is administered by HRSA's Bureau of Primary Health Care (BPHC). Sponsoring free clinics are required by law to submit deeming applications in the specified form and manner on behalf of named individuals for review and approval, resulting in a “deeming determination” that includes associated FTCA coverage for these individuals.

Need and Proposed Use of the Information: Deeming applications must address certain specified criteria required by law for deeming determinations to be issued, and FTCA application forms are critical to BPHC's deeming determination processes. These forms provide BPHC with the information necessary to evaluate an application and determine whether an individual meets the requirements for deemed PHS employee status for the purposes of FTCA coverage. FTCA application forms for free clinics do not require any changes with this extension other than to update the applicable dates. In response to a Federal Register notice announcing the FTCA Program deeming applications for Free Clinics published on June 23, 2017 (Vol. 82, No. 120, pages 28667-28668), BPHC received several comments requesting that FTCA eligibility be extended to free clinics as entities. In response, BPHC notes that per Section 224(o) of the PHS Act (42 U.S.C. 233(o)), FTCA coverage cannot be extended to the free clinic as an entity. Rather, coverage is only available to eligible and approved free clinic-sponsored individuals. BPHC notes that the estimated number of responses per respondent has increased from one to three annually due to sponsoring free clinics submitting a greater number of supplemental applications on behalf of individuals who on-board throughout a calendar year.

Likely Respondents: Respondents include free clinics seeking deemed PHS employee status on behalf of their sponsored individuals for purposes of FTCA coverage.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
FTCA Program Deeming Application for Free Clinics | 228 | 3 | 684 | 2 | 1,368
Total | 228 | 3 | 684 | 2 | 1,368

Amy McNulty,
Acting Director, Division of the Executive Secretariat.

[FR Doc. 2017-21488 Filed 10-4-17; 8:45 am]

BILLING CODE 4165-15-P